DEPARTMENT OF JUSTICE

Notice of Filing of Proposed Settlement Agreement Regarding Environmental Claims In Connection With the Madison County Mines Superfund Site

On February 19, 2021, the Department of Justice lodged a proposed Consent Decree with the United States District Court for the Eastern District of Missouri in the lawsuit entitled United States and the State of Missouri v. Delta Asphalt, Inc., Civil Action No. 21-cv-00029.

The proposed Consent Decree would resolve claims the United States and State of Missouri have brought pursuant to Sections 107(a) of the Comprehensive Environmental Response, Compensation, and Liability Act, 42 U.S.C. 9607(a), and Missouri Hazardous Waste Management Law, Mo. Rev. Stat. §§ 260.350-260.430, and § 260.510 against Delta Asphalt, Inc. (“Delta”) related to Operable Unit 5 (“OU5”) of the Madison County Mines Superfund Site in Madison County, Missouri.

Under the Settlement Agreement, Delta will place proprietary controls on its property to provide the Environmental Protection Agency and the State access in order to perform remedial actions, as well as place limits on any use of the property that could interfere with the remedy. In exchange, the United States and the State provide covenants not to sue or to take administrative action against Delta pursuant to Sections 106 and 107(a) of CERCLA, 42 U.S.C. 9606 and 9607(a), Section 7003 of RCRA, 42 U.S.C. 6973, and Mo. Rev. Stat. §§ 260.350-260.430 and §§ 260.500-550, with regard to the Site.

The publication of this notice opens a period for public comment on the Settlement Agreement. Comments should be addressed to the Assistant Attorney General, Environment and Natural Resources Division, and should refer to United States and the State of Missouri v. Delta Asphalt, Inc., D.J. Ref. No. 90-11-3-11942. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under Section 7003(d) of RCRA, 42 U.S.C. 6973, a commenter may request an opportunity for a public meeting in the affected area.

During the public comment period, the Settlement Agreement may be examined and downloaded at this Justice Department website: https://www.justice.gov/enrd/consent-decrees. Alternatively, a paper copy of the Settlement Agreement will be provided upon written request and payment of reproduction costs. Please mail your request and payment to: Consent Decree Library, U.S. DOJ—ENRD, P.O. Box 7611, Washington, DC 20044-7611.

Please enclose a check or money order for $11.75 (25 cents per page reproduction cost) payable to the United States Treasury.

Susan Akers,
Assistant Section Chief, Environmental Enforcement Section, Environment and Natural Resources Division.

[FR Doc. 2021-03986 Filed 2-25-21; 8:45 am]

BILLING CODE 4410-15-P